DEPARTMENT OF THE INTERIOR

Bureau of Indian Affairs

[190A2100DD/AAKC001030/A0A501010.999900 253G; OMB Control Number 1076-0185]

Agency Information Collection Activities; Submission to the Office of Management and Budget for Review and Approval; Tribal Education Department Grant Program

AGENCY: Bureau of Indian Affairs, Interior.

ACTION: Notice of information collection; request for comment.

SUMMARY: In accordance with the Paperwork Reduction Act of 1995, we, the Bureau of Indian Education (BIE) are proposing to renew an information collection.

DATES: Interested persons are invited to submit comments on or before May 6, 2019.

ADDRESSES: Send written comments on this information collection request (ICR) to the Office of Management and Budget's Desk Officer for the Department of the Interior by email at OIRA_Submission@omb.eop.gov; or via facsimile to (202) 395-5806. Please provide a copy of your comments to Maureen Lesky, 1011 Indian School Road NW, Suite 332, Albuquerque, NM 87104; or by email to Maureen.Lesky@bie.edu. Please reference OMB Control Number 1076-0185 in the subject line of your comments.

FOR FURTHER INFORMATION CONTACT: To request additional information about this ICR, Maureen Lesky by email at Maureen.Lesky@bie.edu, or by telephone at (505) 563-5397. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on October 24, 2018. See 83 FR 53655. A comment from the Muscogee (Creek) Nation was received. The BIE responded to the comment in the supporting statement but the feedback did not affect the burden estimates for the collection.

We are again soliciting comments on the proposed ICR that is described below. We are especially interested in public comments addressing the following issues: (1) Is the collection necessary to the proper functions of the BIE; (2) will this information be processed and used in a timely manner; (3) is the estimate of burden accurate; (4) how might the BIE enhance the quality, utility, and clarity of the information to be collected; and (5) how might the BIE minimize the burden of this collection on the respondents, including through the use of information technology.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: Under 25 U.S.C. 2020, Congress appropriated funding through the BIE for the development and operation of Tribal departments or divisions of education for the purpose of planning and coordinating all educational programs of the Tribe. All Tribal education departments (TEDs) awarded will provide coordinating services and technical assistance to the school(s) they serve. As required under 25 U.S.C. 2020, for a federally recognized Tribe to be eligible to receive a grant, the Tribe must submit a grant application proposal. Once the grant has been awarded, each awardee will be responsible for quarterly and annual reports. All awardees must comply with regulations relating to grants made under 25 U.S.C. 5322(a).

Title of Collection: Tribal Education Department Grant Program.

OMB Control Number: 1076-0185.

Form Number: None.

Type of Review: Extension of a currently approved collection.

Respondents/Affected Public: Federally recognized Tribes and their Tribal Education Departments (TEDs).

Total Estimated Number of Annual Respondents: 33.

Total Estimated Number of Annual Responses: 63.

Estimated Completion Time per Response: Varies from 2 to 81 hours.

Total Estimated Number of Annual Burden Hours: 1,113.

Respondent's Obligation: Required to Obtain or Retain a Benefit.

Frequency of Collection: Yearly for the proposal and annual report, quarterly for the quarterly reports.

Total Estimated Annual Nonhour Burden Cost: None.

An agency may not conduct or sponsor and a person is not required to respond to a collection of information unless it displays a currently valid OMB control number.

The authority for this action is the Paperwork Reduction Act of 1995 (44 U.S.C. 3501 et seq).

Elizabeth K. Appel,
Director, Office of Regulatory Affairs and Collaborative Action—Indian Affairs.

[FR Doc. 2019-06613 Filed 4-3-19; 8:45 am]

BILLING CODE 4337-15-P